DEPARTMENT OF HEALTH AND HUMAN SERVICES

Centers for Disease Control and Prevention

Board of Scientific Counselors, National Center for Infectious Disease

In accordance with section 10(a)(2) of the Federal Advisory Committee Act (Pub. L. 92-463), the Centers for Disease Control and Prevention (CDC) announces the following committee meeting.

Name: Board of Scientific Counselors, National Center for Infectious Diseases (NCID).

Times and Dates:

9 a.m.-5 p.m., December 11, 2003

8:30 a.m.-2 p.m., December 12, 2003

Place: CDC, Auditorium B, Building 1, 1600 Clifton Road, Atlanta, Georgia 30333.

Status: Open to the public, limited only by the space available.

Purpose: The Board of Scientific Counselors, NCID, provides advice and guidance to the Director, CDC, and Director, NCID, in the following areas: Program goals and objectives; strategies; program organization and resources for infectious disease prevention and control; and program priorities.

Matters to be Discussed: Agenda items will include:

1. Opening Session: NCID Update.

2. Futures Initiative Update.

3. Emerging Infections Plan Update.

4. Topic Updates:

a. Severe Acute Repiratory Syndrome.

b. Monkeypox.

c. West Nile Virus.

5. Extramural Research Update.

6. Global Health Activities.

7. Topic Updates.

a. Influenza.

b. MRSA.

8. Minority and Women's Health Update.

9. Board meets with Director, CDC.

Other agenda items include announcements/introductions; follow-up on actions recommended by the Board May 2003; consideration of future directions, goals, and recommendations.

Agenda items are subject to change as priorities dictate.

Written comments are welcome and should be received by the contact person listed below prior to the opening of the meeting.

For Further Information Contact: Tony Johnson, Office of the Director, NCID, CDC, Mailstop E-51, 1600 Clifton Road, NE, Atlanta, Georgia 30333, e-mail: tjohnson3@cdc.gov; telephone (404) 498-3249.

The Director, Management Analysis and Services Office, has been delegated the authority to sign Federal Register notices pertaining to announcements of meetings and other committee management activities, for both the Centers for Disease Control and Prevention and the Agency for Toxic Substances and Disease Registry.

Dated: November 12, 2003.
Alvin Hall,
Director, Management Analysis and Services Office, Centers for Disease Control and Prevention.

[FR Doc. 03-28725 Filed 11-17-03; 8:45 am]

BILLING CODE 4163-18-P